DEPARTMENT OF THE INTERIOR

Fish and Wildlife Service

[FWS-R1-MB-2014—N205; FXES11120100000-145-FF01M01000]

Information Collection Request Sent to the Office of Management and Budget (OMB) for Approval; Monitoring Recovered Species After Delisting—American Peregrine Falcon

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on September 30, 2014. We may not conduct or sponsor and a person is not required to respond to a collection of information unless it displays a currently valid OMB control number. However, under OMB regulations, we may continue to conduct or sponsor this information collection while it is pending at OMB.

DATES: You must submit comments on or before October 27, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-0101” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0101.

Title: Monitoring Recovered Species After Delisting—American Peregrine Falcon.

Service Form Numbers: 3-2307, 3-2308, and 3-2309.

Type of Request: Extension of currently approved collection.

Description of Respondents: Professional biologists employed by State agencies and other organizations, and volunteers that have been involved in past peregrine falcon conservation efforts.

Respondent's Obligation: Voluntary.

Frequency of Collection: On occasion.

Activity | Number of annual responses | Completion time per response (hours) | Total annual burden hours
FWS Form 3-2307 | 254 | 2.5 | 636
FWS Form 3-2308 | 12 | 2.5 | 30
FWS Form 3-2309 | 12 | 2.5 | 30
Totals | 278 |  | 696

Estimated Nonhour Cost Burden: We estimate the total nonhour burden cost to be $252.00 for expenses incurred when contaminants samples must be shipped to designated labs for analysis and storage.

Abstract: This information collection implements requirements of the Endangered Species Act (16 U.S.C. 1531 et seq.) (ESA). There are no corresponding Service regulations for the ESA post-delisting monitoring requirement. This information collection also implements the Migratory Bird Treaty Act (16 U.S.C. 704) and Service regulations in chapter I, subchapter B of title 50 of the Code of Federal Regulations (CFR).

The American peregrine falcon was removed from the List of Endangered and Threatened Wildlife on August 25, 1999 (64 FR 46542). Section 4(g) of the ESA requires that all species that are recovered and removed from the List of Endangered and Threatened Wildlife (delisted) be monitored in cooperation with the States for a period of not less than 5 years. The purpose of this requirement is to detect any failure of a recovered species to sustain itself without the protections of the ESA. We work with relevant State agencies and other species experts to develop appropriate plans and procedures for systematically monitoring recovered wildlife and plants.

The American peregrine falcon has a large geographic distribution that includes a substantial amount of non-Federal land. Although the ESA requires that monitoring of recovered species be conducted for not less than 5 years, the life history of American peregrine falcons is such that it is appropriate to monitor this species for a longer period of time in order to meaningfully evaluate whether or not the recovered species continues to maintain its recovered status. The Monitoring Plan for the American Peregrine Falcon is available on our Web site at http://www.fws.gov/endangered/esa-library/pdf/Peregrineplan2003.pdf. Formal collection of monitoring data began in 2003 and continued through 2012. We monitored peregrines nationally four times over a span of 9 years. Although formal post-delisting monitoring concluded in 2012, we will make an effort to continue to monitor peregrine falcons regionally in future years. Under this reduced effort, we will monitor peregrines in four southwestern States in 2015.

We will use the information supplied on FWS Forms 3-2307, 3-2308, and 3-2309 to further our knowledge of American peregrine falcon breeding site occupancy, nest success, productivity, and contaminant levels in parts of the United States:

(1) FWS Form 3-2307 (Peregrine Falcon Monitoring Form) addresses the reporting requirements to record observations on the nesting pair, and the numbers of eggs and young during each nest visit.

(2) FWS Form 3-2308 (Peregrine Falcon Egg Contaminants Data Sheet) addresses the reporting requirements to record data on eggs collected opportunistically during a nest visit.

(3) FWS Form 3-2309 (Peregrine Falcon Feather Contaminants Data Sheet) addresses the reporting requirements to record data on feathers collected opportunistically during a nest visit. Once collected, the eggs and feathers are archived in a deep freeze for analysis at a later time.

Comments Received and Our Responses

On July 14, 2014, we published in the Federal Register (79 FR 40776) a notice of our intent to request that OMB renew approval for this collection of information. We solicited comments for 60 days, ending on September 12, 2014. We received four comments. One comment was from the State of Montana, Department of Fish, Wildlife and Parks, and the other three were from participants in and organizers of peregrine falcon monitoring in Montana. All commenters:

• Agreed that the collection of information is necessary and has practical utility.

• Stated that this information collection is not simply necessary, but is our obligation under the ESA.

• Argued for continuing post-delisting monitoring of peregrine falcons in 2015.

• Expressed concern that we terminated post-delisting monitoring prematurely.

• Elaborated on the reasons why the Service should continue monitoring the falcons; i.e., that the data will serve as a baseline by which to measure future breeding performance; that peregrine falcons are indicators of environmental health, and continued monitoring may reveal the presence of destructive environmental contaminants, the negative effects of climate change, or of emerging avian diseases.

Two commenters mentioned that monitoring peregrines in Montana will be challenging without the financial assistance that the Service has given in previous post-delisting monitoring years.

Response: The original design of the post-delisting monitoring plan called for monitoring the species five times at 3-year intervals from 2003 through 2015. Fiscal conservatism forced us to critically evaluate expenditures in every program, including peregrine falcon post-delisting monitoring. The monitoring results from 4 monitoring years, spanning a 9-year period, show that in most regions and nationally the species is doing well; e.g., meeting or exceeding targets for territory occupancy, nesting success, and productivity. Other data show that the numbers of breeding birds continue to increase in most States. We believe peregrine falcons have been monitored effectively for more than 5 years, and the data show that the species is not in danger of being relisted as threatened or endangered. Therefore, we have met our obligations under the ESA, and post-delisting monitoring was concluded in 2012.

We may continue to monitor peregrine falcons less intensively in the future, with periodic national or regional monitoring efforts. In 2015, for example, we, with State partners, will monitor peregrine falcons in the southwestern United States (Utah, Colorado, Arizona, and New Mexico). We plan to monitor approximately 130 territories, or 20 percent of the number of territories monitored nationally during post-delisting monitoring.

The 4 years of post-delisting monitoring data provide us with an adequate baseline against which future monitoring efforts may be compared regionally and nationally. Monitoring from each year met our goals for statistical rigor, each of the 4-year datasets stands alone, and together these datasets provide us with a justification to conclude delisting monitoring of this species. Peregrines are sensitive indicators of some environmental changes, particularly, as history has shown, to some chemical contaminants. For this reason, we will consider, with partners, a strategy to continue some level of monitoring in the future so we can detect potential problems before they become critical.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 22, 2014.
Tina A. Campbell,
Chief, Division of Policy and Directives Management, U.S. Fish and Wildlife Service.

[FR Doc. 2014-22925 Filed 9-25-14; 8:45 am]

BILLING CODE 4310-55-P